DEPARTMENT OF THE INTERIOR

Bureau of Indian Affairs

Draft Environmental Impact Statement for the Proposed Cortina Integrated Waste Management Project, Colusa County, CA

AGENCY: Bureau of Indian Affairs, Interior.

ACTION: Notice.

SUMMARY: This notice advises the public that the closing date of the public comment period for the Draft Environmental Impact Statement for the Proposed Cortina Integrated Waste Management Project, Colusa County, CA, which was announced in the Federal Register on December 20, 1999 (64 FR 71149), has been extended from February 15, 2000 to March 17, 2000.

DATES: The date by which written comments must arrive is extended from February 15, 2000 to March 17, 2000.

ADDRESSES: If you wish to comment, you may submit your comments by any one of several methods. You may mail or hand carry written comments to Ronald M. Jaeger, Regional Director, Pacific Region, Bureau of Indian Affairs, 2800 Cottage Way, Sacramento, California 95825-1846. You may also comment via the Internet to billallan@bia.gov. Please submit Internet comments as an ASCII file, avoiding the use of special characters and any form of encryption. Include your name, return address and the caption, “DEIS Comments, Cortina Integrated Waste Management Project, Cortina Indian Rancheria of Wintun Indians, Colusa County, California,” on the first page of your written comments or Internet message. If you do not receive a confirmation from the system that we have received your Internet message, contact us directly at (916) 978-6043.

Comments, including names and home addresses of respondents, will be available for public review at the above address during regular business hours, 8:00 a.m. to 4:30 p.m., Monday through Friday, except holidays. Individual respondents may request confidentiality. If you wish us to withhold your name and/or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

FOR FURTHER INFORMATION CONTACT: William Allan, (916) 978-6043.

SUPPLEMENTARY INFORMATION: This notice is published in accordance with section 1503.1 of the Council on Environmental Quality Regulations (40 CFR Parts 1500 through 1508), implementing the procedural requirements of the National Environmental Policy Act of 1969, as amended (42 U.S.C. 4321 et seq.), and the Department of the Interior Manual (516 DM 1-6), and is in the exercise of authority delegated to the Assistant Secretary—Indian Affairs by 209 DM 8.

Dated: January 11, 2000.
Kevin Gover,
Assistant Secretary—Indian Affairs.

[FR Doc. 00-1456 Filed 1-20-00; 8:45 am]

BILLING CODE 4310-02-P